DEPARTMENT OF COMMERCE

National Oceanic and Atmospheric Administration

RIN 0648-XR062

Endangered and Threatened Species; Take of Anadromous Fish

AGENCY: National Marine Fisheries Service (NMFS), National Oceanic and Atmospheric Administration (NOAA), Commerce.

ACTION: Notice; determination on a Tribal Resource Management Plan.

SUMMARY: Notice is hereby given that NMFS has a determination on the Nez Perce Tribe's Tribal Resource Management Plan (TRMP) for fall Chinook and coho salmon in the Snake River Basin, pursuant to the protective regulations promulgated for Pacific salmon and steelhead under the Endangered Species Act (ESA). The TRMP specifies the implementation of fisheries targeting fall Chinook and coho salmon in the Snake River Basin and associated monitoring. NMFS took public comments on its recommended determination for how the plan addresses the criteria in § 223.203(b)(4) prior to making its final determination.

FOR FURTHER INFORMATION CONTACT: Charlene Hurst, at phone number: (503) 230-5409, or via email: Charlene.n.hurst@noaa.gov.

SUPPLEMENTARY INFORMATION:

ESA-Listed Species Covered in This Notice

Chinook salmon (Oncorhynchus tshawytscha): Threatened, naturally produced and artificially propagated Snake River Spring/Summer, and Snake River Fall.

Steelhead (O. mykiss): Threatened, naturally produced and artificially propagated Snake River Basin.

Sockeye salmon (O. nerka): Endangered, naturally produced and artificially propagated Snake River.

Discussion of the Biological Analysis Underlying the Determination

The TRMP defines maximum impact rates/incidental mortality for listed species. Impacts to fall Chinook salmon are defined by a harvest schedule based on natural-origin fall Chinook salmon abundance measured at Lower Granite Dam. These maximum impact rates are part of a basin-wide framework with which all fishery managers have agreed to coordinate so that impacts do not exceed these maximums.

NMFS has analyzed the effects of the TRMP on ESA-listed salmon and steelhead species and has concluded that the TRMP would not appreciably reduce the likelihood of survival and recovery of ESA-listed species, while providing for the proposed tribal treaty harvest opportunities. Our determination depends upon implementation of all of the monitoring, evaluation, reporting tasks or assignments, and enforcement activities included in the TRMP. Reporting and inclusion of new information derived from research, monitoring, and evaluation activities described in the plan provide assurance that performance standards will be achieved in future seasons.

Summary of Comments Received on the Proposed Evaluation and Pending Determination

NMFS published notice of its Proposed Evaluation and Pending Determination (PEPD) on the plan for public review and comment on July 11, 2019 (84 FR 33062), as required by the Tribal 4(d) Rule. The PEPD was available for public review and comment for 30 days. No comments were received specific to the PEPD.

Authority

16 U.S.C. 1531-1543; subpart B, § 223.201-202 also issued under 16 U.S.C. 1361 et seq.; 16 U.S.C. 5503(d) for § 223.206(d)(9).

Dated: October 21, 2019.
Angela Somma,
Chief, Endangered Species Conservation Division, Office of Protected Resources, National Marine Fisheries Service.

[FR Doc. 2019-23249 Filed 10-24-19; 8:45 am]

BILLING CODE 3510-22-P